DEPARTMENT OF JUSTICE

Justice Programs Office

[OMB Number 1121-0149]

Agency Information Collection Activities; Proposed Collection Comments Requested; 2020 National Survey of Prosecutors (NSP)

AGENCY: Bureau of Justice Statistics, Office of Justice Programs, Department of Justice.

ACTION: 30-Day notice.

SUMMARY: The Department of Justice (DOJ), Office of Justice Programs, Bureau of Justice Statistics, will be submitting the following information collection request to the Office of Management and Budget (OMB) for review and approval in accordance with the Paperwork Reduction Act of 1995. Following publication of the 60-day notice, BJS received two sets of substantive comments. The first requested that the survey obtain information on prosecutors' handling of appellate cases. The second requested that the survey collect demographic characteristics of defendants. BJS determined that adding these questions would be too burdensome for respondents. Additionally, new items require cognitive testing which at this point would result in a significant delay to launching the survey. Thus, no items were added to the instrument or changed.

DATES: Comments are encouraged and will be accepted for 30 days until November 23, 2020.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

(1) Type of Information Collection: Reinstatement of the National Survey of Prosecutors (NSP).

(2) The Title of the Form/Collection: 2020 National Survey of Prosecutors (NSP-20).

(3) The agency form number, if any, and the applicable component of the Department sponsoring the collection: The form number for the questionnaire is NSP-20. The applicable component within the Department of Justice is the Bureau of Justice Statistics, in the Office of Justice Programs.

(4) Affected public who will be asked or required to respond, as well as a brief abstract: Respondents will be local prosecutors who handle criminal cases in State courts. Prosecutors represent the local government in deciding who is charged with a crime, the type and number of charges filed, whether or not to offer a plea, and providing sentencing recommendations for those convicted of crimes. Since 1990, the NSP has been the only recurring national statistical program that captures the administrative and operational characteristics of the prosecutorial function in the State criminal justice system. Similar to previous iterations, the NSP-20 will gather national statistics on local prosecutor office staffing, budgets, and caseloads. Additionally, the NSP-20 will collect data on emerging topics such as the utilization of diversion programs and specialty courts. BJS plans to publish this information in reports and reference it when responding to queries from the U.S. Congress, Executive Office of the President, the U.S. Supreme Court, state officials, international organizations, researchers, students, the media, and others interested in criminal justice statistics.

(5) An estimate of the total number of respondents and the amount of time estimated for an average respondent to respond: An office-level survey will be sent to approximately 750 respondents. At the time of the 60-day notice, the expected burden was about 60 minutes per respondent.

(6) An estimate of the total public burden (in hours) associated with the collection: At the time of the 60-day notice, there was an estimated 1,000 total burden hours associated with this collection.

If additional information is required contact: Melody Braswell, Department Clearance Officer, United States Department of Justice, Justice Management Division, Policy and Planning Staff, Two Constitution Square, 145 N Street NE, 3E.405A, Washington, DC 20530.

Dated: October 20, 2020.
Melody Braswell,
Department Clearance Officer for PRA, U.S. Department of Justice.

[FR Doc. 2020-23545 Filed 10-22-20; 8:45 am]

BILLING CODE 4410-30-P